COMMODITY FUTURES TRADING COMMISSION

Sunshine Act Meetings

TIME AND DATE: 9:30 a.m., Thursday, February 20, 2020.

PLACE: CFTC Headquarters, Lobby-Level Hearing Room, Three Lafayette Centre, 1155 21st Street NW, Washington, DC.

STATUS: Open.

MATTERS TO BE CONSIDERED: The Commodity Futures Trading Commission (“Commission” or “CFTC”) will hold this meeting to consider the following matters:

• Proposed Rule: Amendments to the Real-Time Public Reporting Requirements (Part 43);

• Proposed Rule: Amendments to the Swap Data Recordkeeping and Reporting Requirements (Part 45); and

• Reopening of Comment Period: Certain Swap Data Repository and Data Reporting Requirements (Part 49 Verification).

The agenda for this meeting will be available to the public and posted on the Commission's website at https://www.cftc.gov. In the event that the time, date, or place of this meeting changes, an announcement of the change, along with the new time, date, or place of the meeting, will be posted on the Commission's website.

CONTACT PERSON FOR MORE INFORMATION: Christopher Kirkpatrick, Secretary of the Commission, 202-418-5964.

(Authority: 5 U.S.C. 552b)

Dated: February 13, 2020.
Christopher Kirkpatrick,
Secretary of the Commission.

[FR Doc. 2020-03217 Filed 2-13-20; 4:15 pm]

BILLING CODE 6351-01-P